FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011743-006.

Title: Global Transportation Network Agreement.

Parties: APL Co. Pte. Ltd.; American President Lines, Ltd.; Companhia Libra de Navegacao; Compania Sud-Americana de Vapores, S.A.; CP Ships (U.K.) Ltd.; Crowley Liner Services, Inc.; CP Ships USA, LLC; Hanjin Shipping Co., Ltd.; Kawasaki Kisen Kaisha, Ltd.; Mitsui O.S.K. Lines, Ltd.; Montemar Maritima, S.A.; Norasia Container Lines Limited; Senator Lines GmbH; Wan Hai Lines Ltd.; Yangming Marine Transport Corp.; Zim Integrated Shipping Services, Ltd.

Filing Party: Eric C. Jeffrey, Esq.; Goodwin Procter LLP; 901 New York Avenue, NW., Washington, DC 20001.

Synopsis: The amendment updates the corporate address of American President Line's corporate address.

Agreement No.: 201207-002.

Title: Terminal 6 Lease Agreement Between the Port of Portland and ICTSI Oregon, Inc.

Parties: Port of Portland and ICTSI Oregon, Inc.

Filing Party: Paul D. Coleman, Esq.; Hoppel, Mayer & Coleman; 1050 Connecticut Avenue, NW., 10th Floor; Washington, DC 20036.

Synopsis: The amendment provides for a berth access road through Terminal 6 for Berth 601 users.

Agreement No.: 201210.

Title: Port of NY/NJ Port Authority/Marine Terminal Operators Agreement.

Parties: APM Terminals North America, Inc.; Global Terminal & Container Services LLC; Maher Terminals LLC; New York Container Terminal, Inc.; and Port Newark Container Terminal LLC.

Filing Party: Carol N. Lambos, Esq.; The Lambos Firm, LLP; 303 South Broadway, Suite 410, Tarrytown, NY 10591.

Synopsis: The agreement would authorize the parties to collect and exchange information, to discuss and agree on measures to promote environmentally sustainable, efficient, and secure marine terminal operations, to assist the Port Authority in implementation of the Port Authority's Clean Air Strategy to improve the air quality in the PONYNJ community. The parties have requested expedited review.

By Order of the Federal Maritime Commission.
Dated: January 7, 2011.
Karen V. Gregory,
Secretary.

[FR Doc. 2011-508 Filed 1-11-11; 8:45 am]

BILLING CODE 6730-01-P